NUCLEAR REGULATORY COMMISSION

10 CFR Part 50

[NRC-2008-0582, NRC-2000-0019]

RIN 3150-AG98

Modifications to Pressure-Temperature Limits

AGENCY: Nuclear Regulatory Commission.

ACTION: Discontinuation of rulemaking activity; denial of petition for rulemaking.

SUMMARY: The U.S. Nuclear Regulatory Commission (NRC) is discontinuing the rulemaking activity, “Modifications to Pressure-Temperature Limits,” and denying the associated petition for rulemaking, (PRM)-50-69. The NRC determined that its relevant past decisions and current policies are sufficient to protect the public health and safety in this area and that the potential benefits of proceeding with a rulemaking do not outweigh the associated costs. The rulemaking activity will no longer be reported in the NRC's portion of the Unified Agenda of Regulatory and Deregulatory Actions (the Unified Agenda).

DATES: Effective January 8, 2020, the rulemaking activity discussed in this document is discontinued and PRM-50-69 is denied.

ADDRESSES: Please refer to Docket IDs NRC-2008-0582 (rulemaking activity) and NRC-2000-0019 (petition for rulemaking) when contacting the NRC about the availability of information regarding this document. You may obtain publicly-available information related to this document using any of the following methods:

• Federal Rulemaking Website: Go to https://www.regulations.gov and search for Docket IDs NRC-2008-0582 (rulemaking activity) and NRC-2000-0019 (petition for rulemaking). Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209 or 301-415-4737, or by email to pdr.resource@nrc.gov. The ADAMS accession number for each document referenced in this document (if it is available in ADAMS) is provided the first time that it is referenced.

• NRC's PDR: You may examine and purchase copies of public documents at the NRC's PDR, Room O1-F21, One White Flint North, 11555 Rockville Pike, Rockville, Maryland 20852.

FOR FURTHER INFORMATION CONTACT: Ilka T. Berrios, Office of Nuclear Material Safety and Safeguards, U.S. Nuclear Regulatory Commission, Washington, DC 20555-0001; telephone: 301-415-2404; email: Ilka.Berrios@nrc.gov.

SUPPLEMENTARY INFORMATION:

I. Background

Title 10 of the Code of Federal Regulations (10 CFR) 2.802, “Petition for rulemaking—requirements for filing,” provides an opportunity for any interested person to petition the Commission to issue, amend, or rescind any regulation. On November 4, 1999, Westinghouse Electric Company, LLC (petitioner) (ADAMS Accession No. ML003683190), submitted PRM-50-69, requesting that the NRC amend appendix G to 10 CFR part 50, by removing requirements related to the metal temperature of the closure head flange and reactor vessel flange regions. Specifically, the petitioner requested that the agency remove footnotes (2) and (6) from Table 1 of appendix G to 10 CFR part 50. In response to this petition, the NRC initially determined that it would consider the issues raised in PRM-50-69 in an ongoing rulemaking to amend appendix G to 10 CFR part 50. On January 28, 2009, the NRC published a notification in the Federal Register (74 FR 4911), stating that the NRC will consider the issues raised in PRM-50-69 in the NRC's rulemaking process, and closed Docket ID NRC 2000-0019 for PRM-50-69. That Federal Register notification also stated that if the ongoing work to establish the technical basis for this rulemaking did not support the issuance of a proposed rule, the NRC would issue a supplemental Federal Register notification that addressed why the NRC did not adopt the petitioner's requested rulemaking changes.

II. Discussion

A. Discontinuation of Rulemaking To Amend Appendix G to 10 CFR Part 50

In SECY-16-0009, “Recommendations Resulting from the Integrated Prioritization and Re-Baselining of Agency Activities” (January 31, 2016) (ADAMS Accession No. ML16028A189), the staff requested Commission approval of work to be shed, deprioritized, or performed with fewer resources. One of the items identified to be shed (i.e., discontinued) was the development of a technical basis for the rulemaking effort, “Modifications to Pressure-Temperature Limits” (appendix G rulemaking, Item 50 of Enclosure 1 to SECY-16-0009).

During the development of the regulatory basis for a rulemaking to amend appendix G to 10 CFR part 50, the staff determined that discontinuation of this rulemaking would have a minimal adverse impact on the NRC's mission, principles, or values. In addition, the research did not establish any information that would serve as the technical basis to revise appendix G to 10 CFR part 50.

The Commission approved the discontinuation of this rulemaking effort in staff requirements memorandum (SRM)-SECY-16-0009, “Staff Requirements—SECY-16-0009—Recommendations Resulting from the Integrated Prioritization and Re-Baselining of Agency Activities” (April 13, 2016) (ADAMS Accession No. ML16104A158).

Prior to the discontinuation of the rulemaking effort, the NRC staff evaluated the technical merits of the petition and concluded that the technical basis for the proposal, as described in the petition, was insufficient to serve as the technical basis for an appendix G rulemaking.

B. Denial of Petition for Rulemaking, PRM-50-69

Under 10 CFR 2.803(i)(2), if the NRC decides not to complete a rulemaking, any associated petition for rulemaking is documented as denied. In SRM-SECY-16-0009, the Commission approved discontinuation of the appendix G rulemaking, as discussed above, which was the rulemaking identified to address PRM-50-69. Therefore, the staff is denying the associated petition, PRM-50-69, for the same reasons that the appendix G rulemaking was discontinued.

III. Conclusion

The NRC previously terminated the appendix G rulemaking and is denying associated PRM-50-69 for the reasons discussed in this document. The NRC has determined that there was insufficient new information to warrant the requested changes in light of the NRC's relevant past decisions and current policies. In the next edition of the Unified Agenda, the NRC will update the entry for the rulemaking activity and reference this document to indicate that the rulemaking is no longer being pursued. The rulemaking activity will appear in the completed actions section of that edition of the Unified Agenda (i.e., it will not appear in future editions).

Dated at Rockville, Maryland, this 20th of December, 2019.
For the Nuclear Regulatory Commission.
Annette L. Vietti-Cook,
Secretary of the Commission.

[FR Doc. 2019-28061 Filed 1-7-20; 8:45 am]

BILLING CODE 7590-01-P